DEPARTMENT OF AGRICULTURE

Office of the Assistant Secretary for Civil Rights; Request for Reinstatement of a Previously Approved Information Collection; Correction

AGENCY: Office of the Assistant Secretary for Civil Rights, Department of Agriculture.

ACTION: Notice; correction.

SUMMARY: The Office of the Assistance Secretary for Civil Rights, U.S. Department of Agriculture published a document in the Federal Register of November 22, 2010, concerning request for comnents on the notice of request for reinstatement of a previously approved information collection. The published document requires clarification on what information is being collected from the public.

DATES: We will consider comments that we receive by February 11, 2011.

ADDITIONAL INFORMATION OR COMMENTS: Contact David King, Office of the Assistant Secretary for Civil Rights, U.S. Department of Agriculture, 1400 Independence Ave., SW., Washington, DC 20250, (202) 720-8106 (voice), (202) 619-6853 (fax), david.king@ascr.usda.gov (email).

In the Federal Register of November 22, 2010, in FR Doc. 2010-29132, on page 71067, make the following corrections:

In the second colunm, delete the word “Finally” from the fifth sentence of the second paragraph, so that the sentence begins, “The respondent is asked to identify * * *”

In the second column, after the last line, which reads, “(Not all bases apply to all programs.)”, add the following sentence:

Finally, the respondent is asked to provide information about what would be required to resolve the complaint, from his or her perspective, as well as information about whether the respondent has previously filed a complaint about the incident in another forum.

In the second column, after the second paragraph, add a new paragraph that reads:

In addition, the respondent is asked voluntarily to provide his or her race, ethnicity, gender, and national origin. This information will be used to help USDA monitor enforcement of laws that require equal access to its programs for eligible persons.

Dated: January 12, 2011.
Joe Leonard, Jr.,
Assistant Secretary for Civil Rights.

[FR Doc. 2011-1165 Filed 1-24-11; 8:45 am]

BILLING CODE M